DEPARTMENT OF AGRICULTURE

Grain Inspection, Packers and Stockyards Administration

[06-GL-C]

Opportunity To Comment on the Applicants for the Texas Area

AGENCY: Grain Inspection, Packers and Stockyards Administration, USDA.

ACTION: Notice.

SUMMARY: GIPSA requests comments on the applicants for designation to provide official services in the Texas geographic area previously assigned to Global Grain Inspection Services, Inc. (Global).

DATES: Comments must be received on or before March 29, 2006.

ADDRESSES: Comments must be submitted in writing to USDA, GIPSA, Janet M. Hart, Deputy Director, Compliance Division, STOP 3604, Room 1647-S, 1400 Independence Avenue, SW., Washington, DC 20250-3604. FAX 202-690-2755; e-mail Janet.M.Hart@usda.gov. All comments received will be made available for public inspection at the above address located at 1400 Independence Avenue, SW., during regular business hours.

FOR FURTHER INFORMATION CONTACT: Janet M. Hart at 202-720-8525, e-mail Janet.M.Hart@usda.gov.

SUPPLEMENTARY INFORMATION: This Action has been reviewed and determined not to be a rule or regulation as defined in Executive Order 12866 and Departmental Regulation 1512-1; therefore, the Executive Order and Departmental Regulation do not apply to this action.

Global advised the Grain Inspection, Packers and Stockyards Administration (GIPSA) that they will cease providing official services on April 9, 2006. GIPSA announced that Global's designation will be canceled effective April 9, 2006, in the February 1, 2006, Federal Register (71 FR 5233). GIPSA also asked persons interested in providing official services in the south Texas area to submit an application for designation.

There were three applicants for the south Texas area: a company proposing to do business as Gulf Country Inspection Service, Inc. (Gulf); a company proposing to do business as InterContinental Grain Inspections, Inc. (InterContinental), a subsidiary of Socit Générale de Surveillance (SGS) North America, Inc.; and South Texas Grain Inspection LLC (South Texas), a proposed organization being formed by the Corpus Christi Grain Exchange, Inc., to function under a trust. Gulf and InterContinental applied for all or part of the area previously assigned to Global. South Texas applied for only the following Counties in Texas: Aransas, Atascosa, Bee, Bexar, Brooks, Calhoun, Cameron, Comal, Dewitt, Duval, Frio, Goliad, Gonzales, Guadalupe, Hidalgo, Jackson, Jim Hogg, Jim Wells, Karnes, Kenedy, Kleberg, LaSalle, Lavaca, Live Oak, Maverick, McMullen, Medina, Nueces, Refugio, San Patricio, Starr, Uvalde, Victoria, Webb, Willacy, Wilson, Zapata, and Zavala. GIPSA is publishing this notice to provide interested persons the opportunity to present comments concerning the applicants. Commenters are encouraged to submit reasons and pertinent data for support or objection to the designation of the applicants. All comments must be submitted to the Compliance Division at the above address. Comments and other available information will be considered in making a final decision. GIPSA will publish notice of the final decision in the Federal Register, and GIPSA will send the applicants written notification of the decision.

Authority: Pub. L. 94-582, 90 Stat. 2867, as amended (7 U.S.C. 71 et seq.).

James E. Link,
Administrator, Grain Inspection, Packers and Stockyards Administration.

[FR Doc. E6-3538 Filed 3-13-06; 8:45 am]

BILLING CODE 3410-EN-P